DEPARTMENT OF COMMERCE

National Oceanic and Atmospheric Administration

[RTID 0648-XE326]

Takes of Marine Mammals Incidental to Specified Activities; Taking Marine Mammals Incidental to Construction Activities Associated With the Murray St. Bridge Seismic Retrofit Project in Santa Cruz, California

AGENCY: National Marine Fisheries Service (NMFS), National Oceanic and Atmospheric Administration (NOAA), Commerce.

ACTION: Notice; issuance of incidental harassment authorizations.

SUMMARY: NMFS has received a request from the City of Santa Cruz for the re-issuance of previously issued incidental harassment authorizations (IHAs). The initial IHAs authorized take incidental to construction associated with Murray St. Bridge seismic retrofit project in Santa Cruz, California. The project has been delayed and none of the planned work has been conducted. The scope of the activities and anticipated effects remain the same, authorized take numbers are not changed, and the required mitigation, monitoring, and reporting remains the same as included in the initial IHAs. NMFS therefor is reissuing identical IHAs, with the only change being to the effective dates.

DATES: These authorizations are effective from July 1, 2025 through June 30, 2026 and July 1, 2026 through June 30, 2027, respectively.

FOR FURTHER INFORMATION CONTACT: Jenna Harlacher, Office of Protected Resources, NMFS, (301) 427-8401.

SUPPLEMENTARY INFORMATION:

Background

The MMPA prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, an IHA is issued.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of the species or stocks for taking for certain subsistence uses (referred to in shorthand as “mitigation”); and requirements pertaining to the mitigation, monitoring and reporting of the takings are set forth. The definitions of all applicable MMPA statutory terms used above are included in the relevant sections below and can be found in section 3 of the MMPA (16 U.S.C. 1362) and NMFS regulations at 50 CFR 216.103.

Summary of Request

On May 2, 2023, NMFS published a final notice of issuance for two consecutive IHAs authorizing take of marine mammals incidental to the Murray St. Bridge seismic retrofit project (88 FR 27452). The effective dates of the IHAs were July 1, 2023 through June 30, 2024 and July 1, 2024 through June 30, 2025. On September 5, 2024, the City of Santa Cruz informed NMFS that the project was delayed. None of the planned work (e.g., pile driving and removal) has occurred. The City of Santa Cruz submitted a request that we reissue identical IHAs to be effective from July 1, 2025 through June 30, 2026 and July 1, 2026 through June 30, 2027, in order to conduct the construction work that was analyzed in association with the previously issued IHAs. There is no new information that would affect the authorized take numbers or required mitigation, monitoring, and reporting requirements and, therefore, the only change is to the effective dates.

Summary of Specified Activity and Anticipated Impacts

The planned activities, mitigation, monitoring, and reporting requirements, authorized incidental take, and anticipated impacts on the affected stocks are the same as those analyzed for the previously issued IHAs.

The City plans to conduct a seismic retrofit on the Murray St. Bridge, which spans the Santa Cruz Small Craft Harbor. As part of the project, the City will use vibratory pile extraction to temporarily remove docks and associated piles to accommodate construction access to the bridge. Impact pile driving will be used to install additional bridge support piles. In order to facilitate installation of bridge piles, vibratory extraction may be used to construct a temporary trestle. As an alternative to the trestle, a temporary barge may be constructed instead. The purpose of the project is to provide the bridge with additional vertical support and resistance to lateral seismic forces by installing additional pilings and structural support elements. The City's activity includes impact and vibratory pile driving and vibratory pile removal, which may result in the incidental take of marine mammals by Level A and Level B harassment. The Murray St. Bridge project area includes waters within the Santa Cruz Small Craft Harbor and adjacent lands managed by the Santa Cruz Port District. The location, timing, and nature of the activities, including the types of equipment planned for use, are identical to those described in the initial IHAs. The mitigation and monitoring are also as prescribed in the initial IHA.

Species that are expected to be taken incidental to the planned activity include California sea lions (Zalophus californianus) and harbor seals (Phoca vitulina richardii). A description of the methods and inputs used to estimate take anticipated to occur and, ultimately, the take that was authorized is found in the previous documents referenced above. The data inputs and methods of estimating take are identical to those used for the initial IHAs. NMFS has reviewed recent Stock Assessment Reports and information on relevant Unusual Mortality Events, and determined that no new information affects our original analysis of impacts or take estimate for the initial IHAs.

We refer to the documents related to the previously issued IHAs, which include the Federal Register notice of the issuance of the initial IHAs for the City of Santa Cruz's construction work (88 FR 27452, May 2, 2023), the application, the Federal Register notice of the proposed IHA (88 FR 12316, February 27, 2023), and all associated references and documents.

Determinations

The City of Santa Cruz will conduct activities as analyzed for the initial IHAs. As described above, the number of authorized takes of the same species and stocks of marine mammals are identical to the numbers that were found to meet the negligible impact and small numbers standards and authorized under the initial IHAs and no new information has emerged that would change those findings. The re-issued IHAs include identical required mitigation, monitoring, and reporting measures as the initial IHAs, and there is no new information suggesting that our analysis or findings should change.

Based on the information contained here and in the referenced documents, NMFS has determined the following: (1) the required mitigation measures will effect the least practicable impact on marine mammal species or stocks and their habitat; (2) the authorized takes will have a negligible impact on the affected marine mammal species or stocks; (3) the authorized takes represent small numbers of marine mammals relative to the affected stock abundances; and (4) the City of Santa Cruz's activities will not have an unmitigable adverse impact on taking for subsistence purposes as no relevant subsistence uses of marine mammals are implicated by this action.

National Environmental Policy Act

To comply with the National Environmental Policy Act of 1969 (NEPA; 42 U.S.C. 4321 et seq.) and NOAA Administrative Order (NAO) 216-6A, NMFS must review our proposed action (i.e., the issuance of an IHA) with respect to potential impacts on the human environment.

This action is consistent with categories of activities identified in Categorical Exclusion B4 (IHAs with no anticipated serious injury or mortality) of the Companion Manual for NOAA Administrative Order 216-6A, which do not individually or cumulatively have the potential for significant impacts on the quality of the human environment and for which we have not identified any extraordinary circumstances that would preclude this categorical exclusion. Accordingly, NMFS determined at the time of issuance that the IHAs qualify to be categorically excluded from further NEPA review, and there is no new information that would affect this determination.

Endangered Species Act

Section 7(a)(2) of the Endangered Species Act of 1973 (ESA: 16 U.S.C. 1531 et seq.) requires that each Federal agency insure that any action it authorizes, funds, or carries out is not likely to jeopardize the continued existence of any endangered or threatened species or result in the destruction or adverse modification of designated critical habitat. To ensure ESA compliance for the issuance of IHAs, NMFS consults internally whenever we propose to authorize take for endangered or threatened species.

However, no incidental take of ESA-listed species is authorized or expected to result from this activity. Therefore, NMFS has determined that formal consultation under section 7 of the ESA is not required for this action.

Authorization

NMFS has issued two consecutive IHAs to the City for the potential harassment of small numbers of harbor seals and California sea lions incidental to the seismic retrofit of the Murray St. Bridge project in Santa Cruz, California. All previously described mitigation, monitoring, and reporting requirements from the initial IHAs are incorporated.

Dated: September 27, 2024.
Kimberly Damon-Randall,
Director, Office of Protected Resources, National Marine Fisheries Service.

[FR Doc. 2024-22723 Filed 10-1-24; 8:45 am]

BILLING CODE 3510-22-P